DEPARTMENT OF DEFENSE

Department of the Air Force

[ARW-231206A-PL]

Notice of Intent To Grant an Exclusive Patent License

AGENCY: Department of the Air Force, Department of Defense.

ACTION: Notice of intent.

SUMMARY: Pursuant to the Bayh-Dole Act and implementing regulations, the Department of the Air Force hereby gives notice of its intent to grant an exclusive patent license to ValorTrac Inc. having a place of business at 9213 Bolero Ave., Bakersfield, CA, 93312.

DATES: Written objections must be filed no later than fifteen (15) calendar days after the date of publication of this Notice.

ADDRESSES: Submit written objections to the Air Force Materiel Command Law Office, AFMCLO/JAZ, 2240 B Street, Room 260, Wright-Patterson AFB, OH 45433-7109; Facsimile: (937) 255-3733; or Email: afmclo.jaz.tech@us.af.mil. Include Docket No. ARW-231206A-P in the subject line of the message.

FOR FURTHER INFORMATION CONTACT: William Loux, AFRL/RWSP, 101 W Eglin Blvd., Eglin AFB, FL 32542-6810; Phone: 850-882-3920; or Email: william.loux.2@us.af.mil.

SUPPLEMENTARY INFORMATION:

Abstract of Patent Application(s)

A touch-based tracking method comprises starting a GUI which displays an environment; observing at least one of the presence or absence of one or more targets in relation to features in the environment; when an observation is made, reporting the observation through the GUI to form an input; reporting the observation in the GUI with a hand gesture; applying an algorithm to convert the input into a probability distribution; and updating a target state estimate and alters the environment display. The environment may be an area or a map, and the map may include a plurality of features, e.g. roads, building structures, forest, and water. The observation indicates the presence or non-presence of the one or more targets. The hand gesture is made on the map, such as a swiping motion with one or more fingers on the GUI, wherein the hand gesture indicates the strength of the observation.

Intellectual Property

CURTIS et al., U.S. Patent no. 11,429,273 B1 issued 30 August 2022 and entitled “Touch-Based Tracking system and Method.”

The Department of the Air Force may grant the prospective license unless a timely objection is received that sufficiently shows the grant of the license would be inconsistent with the Bayh-Dole Act or implementing regulations. A competing application for a patent license agreement, completed in compliance with 37 CFR 404.8 and received by the Air Force within the period for timely objections, will be treated as an objection and may be considered as an alternative to the proposed license.

(Authority: 35 U.S.C. 209; 37 CFR 404)

Tommy W. Lee,
Acting Air Force Federal Register Liaison Officer.

[FR Doc. 2023-28208 Filed 12-21-23; 8:45 am]

BILLING CODE 5001-10-P